DEPARTMENT OF THE TREASURY

Community Development Financial Institutions Fund

CDFI Bond Guarantee Program; Correction

AGENCY: Community Development Financial Institutions Fund, U.S. Department of the Treasury.

ACTION: Notice of Request for Proposals for Master Servicer/Trustee; correction.

SUMMARY: The Community Development Financial Institutions (CDFI) Fund, a wholly owned government corporation within the U.S. Department of the Treasury, is seeking proposals from entities interested in serving as the Master Servicer/Trustee for the CDFI Bond Guarantee Program, which was authorized under the Small Business Jobs Act of 2010 (Pub. L. 111-240; 12 U.S.C. 4713a) (the Act). The version of the Notice of Request for Proposal published on June 14th, 2013 incorrectly stated the address to which applicants must submit printed copies delivered by commercial carrier. This correction states the appropriate address to which applicants must submit printed copies if delivered by commercial carrier.

FOR FURTHER INFORMATION CONTACT: Lisa M. Jones, Program Manager, CDFI Bond Guarantee Program, by mail to the CDFI Fund, U.S. Department of the Treasury, 1500 Pennsylvania Avenue NW., Washington, DC 20220; by email to bgp@cdfi.treas.gov; or by facsimile at (202) 508-0090 (this is not a toll free number). Information regarding the CDFI Fund and the CDFI Bond Guarantee Program may be downloaded from the CDFI Fund's Web site at http://www.cdfifund.gov.

Correction

In the Federal Register of June 14, 2013, in FR Doc. 2013-14157, on page 36031, in the second column, correct III. Submission of Proposals, paragraph A to read as follow:

Any organization wishing to propose to serve as the Master Servicer/Trustee (an Offeror) must submit a proposal to the CDFI Fund in the following format: no more than 40 single-sided pages; double spaced; 12 font size; Arial, Calibri, or Times New Roman font. The Offeror may choose how to allocate the 40 pages of narrative to address the evaluation criteria listed below. Organizations may also submit an appendix of no more than 25 pages of resumes, charts, graphs, and other illustrative materials. Organizations must submit: One (1) electronic copy of the proposal materials in Microsoft Word or Adobe PDF format by email to bgp@cdfi.treas.gov and five (5) printed, color copies of the proposal materials either: (i) By mail to the attention of Lisa Jones, Program Manager, CDFI Bond Guarantee Program, CDFI Fund, U.S. Department of the Treasury, 1500 Pennsylvania Avenue NW., Washington, DC 20220, or (ii) by commercial carrier to the attention of Lisa Jones, Program Manager, CDFI Bond Guarantee Program, CDFI Fund, 1801-6215, JBAB, 250 Murray Lane SW., Building 410/Door 123, Washington, DC 20222.

Dated: June 17, 2013.
Dennis Nolan,
Deputy Director, Community Development Financial Institutions Fund.

[FR Doc. 2013-14738 Filed 6-19-13; 8:45 am]

BILLING CODE 4810-70-P